DEPARTMENT OF TRANSPORTATION

Federal Highway Administration

Supplemental Environmental Impact Statement: Hillsborough County, Florida

AGENCY: Federal Highway Administration (FHWA), DOT.

ACTION: Notice of Intent to prepare a Supplemental Environmental Impact Statement/Section 4(f) Evaluation.

SUMMARY: The Federal Highway Administration (FHWA) in cooperation with the Florida Department of Transportation (FDOT) is issuing this notice to advise the public that a Supplemental Environmental Impact Statement/Section 4(f) Evaluation (SEIS/4f) will be prepared to evaluate new significant environmental impacts since the November 1996 approval of the Final Environmental Impact Statement/Section 4(f) Evaluation (FEIS) for the Tampa Interstate Study proposed highway project in Hillsborough County, Florida.

FOR FURTHER INFORMATION CONTACT: Cathy Kendall, Senior Environmental Protection Specialist, Federal Highway Administration, 3500 Financial Plaza, Suite 400, Tallahassee, Florida 32312, Telephone: (850) 553-2225, email: Cathy.Kendall@dot.gov. You may also contact Menna Yassin, Project Manager, Florida Department of Transportation District 7, 11201 North McKinley Drive, Tampa, Florida 33612, Telephone: 813-975-6433, email: menna.yassin@dot.state.fl.us.

SUPPLEMENTARY PROJECT INFORMATION: The FHWA, in cooperation with the Florida Department of Transportation will prepare an SEIS to examine the impacts and to modify the Long Term Preferred Alternative for the Tampa Interstate Study to improve portions of I-275 (SR 93), I-4 (SR 500) and SR 60 in Hillsborough County, Florida. The proposed modification includes changes to design elements and use of innovative financing sources, including collecting tolls.

A FEIS/Section 4(f) Evaluation (FEIS# FHWA-FL-EIS-95-03-F) was issued for the Project on November 22, 1996 with Records of Decision (ROD) dated January 31, 1997 and June 14, 1999. The FEIS and RODs are available on the project Web site at: www.TampaInterstateStudy.com.

Since issuance of the RODs, the FDOT has taken several major steps to advance the Project toward construction: The documents have been reevaluated several times (in 2000, 2001, 2002, 2003, 2006, 2008, 2009, 2011, 2013 and 2015) which advanced various elements of the project, many of which have already been constructed: Including portions of Segment 1A, Segment 2A, Segment 3A, Segment 3B and Segment 3C. The FDOT now proposes to evaluate changes in environmental impacts, new information and circumstances relevant to the proposed project and changes to preliminary engineering identified since FEIS approval. An SEIS is being prepared because FHWA has determined that the changes result in significant impacts to the human and natural environment that were not evaluated in the FEIS. The SEIS is expected to examine:

• New impacts to the human, natural and physical environment.

• Adding overpasses at several locations along I-275 to improve local street access under I-275 to better connect the communities of Tampa Heights and VM Ybor.

• Tolling the Express Lanes of the Project's improvements along I-275 and I-4.

• Changes in express lane access to local streets in the Tampa downtown area, to the I-4/Selmon Expressway Connector, and various locations from the general use lanes on I-275 and I-4.

The proposed improvement would involve the reconstruction of I-275 from East of Howard Frankland Bridge to East of Himes Avenue, I-275 from East of Himes Avenue to East of Rome Avenue, and East of Rome Avenue to North of SR 574 (Dr Martin Luther King Jr Blvd.) and I-4 from I-275 to east of 50th Street. These improvements were identified as sections 1A, 2A, 2B, 3A and 3B in the originally approved FEIS. Improvements to the corridor are considered necessary to provide for the existing and projected traffic demand.

Alternatives under consideration include: (1) Taking no further action; (2) the improvements shown in the Long Term Preferred Alternative (LTPA) in the approved FEIS, and (3) alteration of the LTPA to collect tolls for the express lanes, add more connectivity between the express lanes and the general use lanes, add express lane access to the local street network in downtown Tampa, and alter lane configuration slightly for improved future traffic operations.

Opportunities for input will be provided to appropriate federal, state, and local agencies, and to private organizations and citizens who have expressed interest in this Project. Public meetings and a public hearing will be held to solicit public input. The SEIS will be made available for public and agency review and comment. Notices of availability for the SEIS will be provided through direct mail, the Federal Register and other media. Notification also will be sent to Federal, State, local agencies, persons, and organizations that submit comments or questions. Additional project information including schedules and locations for the public meetings/hearing will be announced in the local news media and on the Project Web site, www.TampaInterstateStudy.com.

To ensure that the full range of issues related to the proposed action is addressed and all significant issues identified, comments and suggestions are invited from all interested parties. Comments or questions concerning this proposed action and the SEIS should be directed to the FHWA at the address provided above. Questions concerning this Project and the SEIS may also be directed to Menna Yassin, Project Manager, Florida Department of Transportation, District 7, 11201 North McKinley Drive, Tampa, Florida 33612, telephone (813) 975-6433, email menna.yassin@dot.state.fl.us.

Pursuant to 23 U.S.C. 139, FHWA intends to combine the Final SEIS and Record of Decision if it is practicable, to the extent possible as allowed by this provision of law.

Paperwork Reduction. The Paperwork Reduction Act seeks, in part, to minimize the cost to the taxpayer of the creation, collection, maintenance, use, dissemination, and disposition of information. Consistent with this goal and with principles of economy and efficiency in government, FHWA tries to limit insofar as possible distribution of complete printed sets of NEPA documents. Accordingly, unless a specific request for a complete printed set of the NEPA document is received before the document is printed, FHWA and FDOT will distribute only electronic copies of the NEPA document. A complete printed set of the environmental document will be available for review at FDOT's offices; an electronic copy of the complete environmental document will be available on the Project Web site.

(Catalog of Federal Domestic Assistance Program Number 20.205, Highway Research, Planning and Construction. The regulations implementing Executive Order 12372 regarding inter-governmental consultation on Federal programs and activities apply to this program.)

Cathy Kendall,
Senior Environmental Specialist, FHWA, Tallahassee, Florida.

[FR Doc. 2017-00810 Filed 1-13-17; 8:45 am]

BILLING CODE 4910-22-P